DEPARTMENT OF TRANSPORTATION

Federal Aviation Administration

Meeting: Cancellation of RTCA Program Management Committee

AGENCY: Federal Aviation Administration (FAA), U.S. Department of Transportation (DOT).

ACTION: Cancellation of the Notice of RTCA Program Management Committee Meeting.

SUMMARY: The FAA is issuing a CANCELLATION to the notice submitted on July 9th to the public of a meeting of RTCA Program Management Committee.

DATES: The meeting was to be held July 25, 2013, from 9:00 a.m.-1:00 p.m.

ADDRESSES: This meeting is cancelled.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given to cancel a Program Management Committee meeting under the RTCA Federal Advisory Board.

Persons wishing to present statements or obtain information should contact the person listed in the FOR FURTHER INFORMATION CONTACT section. Members of the public may present a written statement to the committee at any time.

Issued in Washington, DC, on July 12, 2013.
Paige Williams,
Management Analyst, NextGen, Business Operations Group, Federal Aviation Administration.

[FR Doc. 2013-17562 Filed 7-19-13; 8:45 am]

BILLING CODE 4910-13-P